DEPARTMENT OF THE INTERIOR

Bureau of Land Management

[NV-040-5101-ER-F852; N-79734]

Notice of Availability of the Draft Environmental Impact Statement for the Lincoln County Land Act Groundwater Development and Utility Right-of-Way Project

AGENCY: Bureau of Land Management, Interior.

ACTION: Notice of Availability.

SUMMARY: In accordance with the National Environmental Policy Act of 1969 (NEPA, 42 U.S.C. 4321 et seq.), the Bureau of Land Management (BLM) has prepared a Draft Environmental Impact Statement (DEIS) to analyze a proposed grant of rights-of-way for groundwater development and utility facilities in Lincoln County, Nevada, and by this notice invites public comments.

DATES: To assure that they will be considered, BLM must receive written comments on the DEIS within 60 days following the date the Environmental Protection Agency publishes their Notice of Availability in the Federal Register. The BLM intends to hold four public meetings in Nevada during the 60-day comment period, one each in Mesquite, Caliente, Carson City and Las Vegas. BLM will announce all public meeting times and locations at least 15 days in advance through public notices, media news releases, and mailings. In addition, information on public meetings may be posted on the Internet at http://www.blm.gov/nv/st/en.html.

ADDRESSES: Submit written comments on the DEIS using any of the following methods:

• Mail: Penny Woods, BLM Project Manager, P.O. Box 12000, Reno, NV 89520.

• Fax: 775-861-6689 (Attention: Penny Woods, Project Manager).

• E-mail: nvgwprojects@blm.gov.

FOR FURTHER INFORMATION CONTACT: Penny Woods, BLM Project Manager, P.O. Box 12000, Reno, NV 89520, by fax 775-861-6466 (Attention: Penny Woods), or by e-mail: nvgwprojects@blm.gov.

SUPPLEMENTARY INFORMATION: The DEIS describes and analyzes a proposal for groundwater development in the Clover Valley and Tule Desert hydrographic basins as submitted by the Lincoln County Water District (LCWD). The DEIS addresses the proposal as submitted by LCWD; an alternative alignment of pipelines, power lines and facilities; and a no action alternative. Under the proposed action, LCWD would develop and convey groundwater in Tule Desert and Clover Valley hydrographic basins to private land for community development in the Toquop Township (Lincoln County Land Act) tract just north of Mesquite, Nevada. The volume of water to be transported through the proposed facilities could be up to 24,000 acre-feet per year.

The proposed project would be located in unincorporated portions of southeastern Lincoln County, Nevada, and consists of approximately 47 miles of a main transmission pipeline; approximately 54 miles of lateral pipelines; up to 30 production wells; water storage tanks, booster stations, and access roads; 138 kV, 22.8 kV and 4.16 kV power lines and a power substation; a natural gas pipeline; underground telephone lines; and a telemetry system utilizing a fiber optic line.

The water wells and associated facilities would be located primarily within or adjacent to a utility corridor established by the Lincoln County Conservation, Recreation and Development Act of 2004—Public Act 108-424 (LCCRDA). A portion of the pipeline would be constructed outside of the LCCRDA corridor to follow existing roads, which would reduce disturbance by following gentler gradients. Lateral pipelines (up to 12-inch diameter) would connect the transmission pipeline (up to 54-inch diameter) to the production wells. Associated facilities would include overhead power lines, buried fiber optic lines for telemetry, telephone lines, natural gas lines, access roads, and temporary storage areas. The power lines and communication lines would be placed in a permanent right-of-way to provide power and communication for project facilities. Depending on final well sitings, access roads approximately 12 feet wide may be needed from existing public roads to each well site. Temporary work areas up to 1 acre in size would be spaced approximately every mile along the right-of-way. Up to 20, five-acre sites, may also be needed for temporary storage, parking, or construction activities along the right-of-way. All temporary work spaces and ancillary storage sites would be reclaimed following completion of project consultation.

The proposed width of the permanent right-of-way for the main transmission pipeline and connected lateral pipelines is 60 feet. A temporary adjacent right-of-way would also be established to accommodate construction activities and would be 40-feet wide. Where power lines are routed, an additional 100-foot permanent right-of-way would be placed adjacent to the 60-foot pipeline right-of-way.

Scoping of the project occurred from March 31 through May 1, 2006. Comments were received in the following broad categories: NEPA development (38 percent), social impacts (22 percent) and physical resources (40 percent). The DEIS addresses the following issues identified during scoping: NEPA process (consultation/coordination, the proposed action, alternatives, connected actions, cumulative impacts, and data needs/validity); social impacts (aesthetics, cultural resources, competing land uses, recreation, and socioeconomic resources); and physical resources (air quality, biological resources, geology and water resources). Key issues identified by individuals, groups and governmental entities include water supply and use, competing or conflicting land uses, and cumulative impacts and connected actions.

A map of the proposed project is available for viewing at the BLM Nevada State Office, 1340 Financial Blvd., in Reno and at the BLM Ely Field Office, 702 North Industrial Way, Ely, Nevada. Copies of the DEIS or the executive summary are available on request from the BLM Nevada State Office, 1340 Financial Blvd., P.O. Box 12000, Reno, NV 89520, 775-861-6681 or e-mail to nvgwprojects@blm.gov. The DEIS is available both in hard copy and on compact disc (CD). The DEIS and summary will be available electronically on the Web site: http://www.blm.gov/nv/st/en.html. Copies of the DEIS will be available for public inspection at the following locations:

• Bureau of Land Management, Nevada State Office, 1340 Financial Blvd., Reno, Nevada.

• Bureau of Land Management, Ely Field Office, 702 North Industrial Way, Ely, Nevada.

All public comments, including names and mailing addresses, will be available for public review at the Nevada State Office in Reno during public room hours from 9 a.m. to 4:30 p.m., Monday through Friday, except Federal holidays, and may be published as part of the Final EIS.

Before including your address, phone number, e-mail address, or other personal identifying information in your comment, you should be aware that your entire comment, including your personal identifying information, may be made publicly available at any time. While you can ask us in your comment to withhold your personal identifying information from public review, we cannot guarantee that we will be able to do so.

Ron Wenker,
State Director.

[FR Doc. E8-11480 Filed 5-22-08; 8:45 am]

BILLING CODE 4310-HC-P